DEPARTMENT OF COMMERCE

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Northeast Region Dealer Purchase Reports.

Form Number(s): NOAA 88-30.

OMB Approval Number: 0648-0229.

Type of Request: Regular submission.

Burden Hours: 2,176.

Number of Respondents: 631.

Average Hours Per Response: 4 minutes.

Needs and Uses: Federally-permitted dealers in specified fisheries are required to submit information weekly regarding their fish purchases. Other dealers are asked to submit the information on a voluntary basis. A small number of commercial fishermen may also be asked to voluntarily provide information related to the purchase. The information obtained is used by economists, biologists, and managers in the management of the fisheries, NOAA is seeking to renew Paperwork Reduction Act approval for these requirements.

Affected Public: Business or other for-profit organizations; individuals or households.

Frequency: Weekly.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: July 20, 2005.
Gwellnar Banks,
Management Analyst, Office of the Chief Information Officer.

[FR Doc. 05-14653 Filed 7-25-05; 8:45 am]

BILLING CODE 3510-22-P